NATIONAL AERONAUTICS AND SPACE ADMINISTRATION

[Notice: (24-012)]

NASA Advisory Council; Aeronautics Committee; Meeting

AGENCY: National Aeronautics and Space Administration.

ACTION: Notice of meeting.

SUMMARY: In accordance with the Federal Advisory Committee Act, the National Aeronautics and Space Administration (NASA) announces a meeting of the Aeronautics Committee of the NASA Advisory Council (NAC). This meeting will be held for the purpose of soliciting, from the aeronautics community and other persons, research and technical information relevant to program planning.

DATES: Wednesday, March 13, 2024, 10:30 a.m.-4:30 p.m., ET.

FOR FURTHER INFORMATION CONTACT: Ms. Irma Rodriguez, Designated Federal Officer, Aeronautics Research Mission Directorate, NASA Headquarters, Washington, DC 20546, (202) 358-0984, or irma.c.rodriguez@nasa.gov.

SUPPLEMENTARY INFORMATION: This meeting will be virtual and available to the public online. Dial-in audio teleconference and webcast details to watch the meeting remotely will be available on the NASA Advisory Council Aeronautics Committee website at https://www.nasa.gov/nasa-advisory-council-aeronautics-committee/. Enter the meeting as a guest and type your name and affiliation. Note: If dialing in, please “mute” your telephone.

The agenda for the meeting includes the following topics:

—Aeronautics Research Mission Directorate FY25 Budget Overview

—Workforce Efforts

—NASA 2040

It is imperative that the meeting be held on these dates to the scheduling priorities of the key participants.

Patricia Rausch,
Advisory Committee Management Officer, National Aeronautics and Space Administration.

[FR Doc. 2024-03620 Filed 2-21-24; 8:45 am]

BILLING CODE P